DEPARTMENT OF TRANSPORTATION

Federal Aviation Administration

14 CFR Part 39

[Docket No. FAA-2014-0594; Directorate Identifier 2014-CE-022-AD]

RIN 2120-AA64

Airworthiness Directives; Pilatus Aircraft LTD. Airplanes

AGENCY: Federal Aviation Administration (FAA), Department of Transportation (DOT).

ACTION: Notice of proposed rulemaking (NPRM).

SUMMARY: We propose to adopt a new airworthiness directive (AD) for all PILATUS AIRCRAFT LTD. Models PC-12, PC-12/45, PC-12/47, and PC-12/47E airplanes that would supersede AD 2012-26-16. This proposed AD results from mandatory continuing airworthiness information (MCAI) originated by an aviation authority of another country to identify and correct an unsafe condition on an aviation product. The MCAI describes the unsafe condition as a need to incorporate new revisions into the Limitations section, Chapter 4, of the FAA-approved maintenance program (e.g., maintenance manual). We are issuing this proposed AD to require actions to address the unsafe condition on these products.

DATES: We must receive comments on this proposed AD by October 2, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Pilatus Aircraft LTD., Customer Service Manager, CH-6371 STANS, Switzerland; telephone: +41 (0) 41 619 33 33; fax: +41 (0) 41 619 73 11; Internet: http://www.pilatus-aircraft.com or email: SupportPC12@pilatus-aircraft.com. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0594; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Comments Invited

We invite you to send any written relevant data, views, or arguments about this proposed AD. Send your comments to an address listed under the ADDRESSES section. Include “Docket No. FAA-2014-0594; Directorate Identifier 2014-CE-022-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On February 8, 2013, we issued AD 2012-26-16, Amendment 39-17311 (78 FR 11572, February 19, 2013). That AD required actions intended to address an unsafe condition on all Pilatus Aircraft LTD. Models PC-12, PC-12/45, PC-12/47, and PC-12/47E airplanes and was based on mandatory continuing airworthiness information (MCAI) originated by an aviation authority of another country.

Since we issued AD 2012-26-16, Amendment 39-17311 (78 FR 11572, February 19, 2013), Pilatus Aircraft LTD. has issued revisions to the Limitations section of the airplane maintenance manual to include repetitive inspections of the inboard flap drive arms for cracks.

The European Aviation Safety Agency (EASA), which is the Technical Agent for the Member States of the European Community, has issued AD No. 2014-0170, dated July 17, 2014 (referred to after this as “the MCAI”), to correct an unsafe condition for the specified products. The MCAI states:

The maintenance instructions and airworthiness limitations applicable to the Structure and Components of PC-12 aeroplanes are specified in the Aircraft Maintenance Manual (AMM) under Chapter 4, Airworthiness Limitation Section (ALS).

The instructions contained in the ALS document have been identified as mandatory actions for continued airworthiness and failure to comply with these instructions and limitations could potentially lead to an unsafe condition.

Pilatus Aircraft Ltd. recently issued Pilatus PC-12 AMM report 02049 issue 28 for PC-12, PC-12/45 and PC-12/47 aeroplanes and PC-12 AMM report 02300 issue 11 for PC-12/47E aeroplanes to incorporate new repetitive inspection intervals of the inboard flap drive arms because of the detection of cracked parts.

For the reason described above, this AD retains the requirements of EASA AD 2013-0031, which is superseded, and requires implementation of the new maintenance requirements and/or airworthiness limitations.

You may examine the MCAI on the Internet at http://www.regulations.gov by searching for and locating Docket No. FAA-2014-0594.

Relevant Service Information

Pilatus Aircraft LTD. has issued Structural, Component and Miscellaneous—Airworthiness Limitations, document 12-A-04-00-00-00A-000A-A, dated March 13, 2014, and Structural and Component Limitations—Airworthiness Limitations, document 12-B-04-00-00-00A-000A-A, dated March 13, 2014. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this AD will affect 770 products of U.S. registry. We also estimate that it would take about 16.5 work-hours per product to comply with the basic requirements of this proposed AD. The average labor rate is $85 per work-hour. Required parts would cost about $300 per product. Based on these figures, we estimate the cost of this proposed AD on U.S. operators to be $1,310,925, or $1,702.50 per product. This breaks down as follows:

• New inspections, etc. through incorporating maintenance manual limitations: 3.5 work-hours with parts about $300 for a fleet cost of $460,075, or $597.50 per product.

• Wing main spar fastener holes inspection: 12 work-hours with no parts cost for fleet cost of $785,400 or $1,020 per product.

• Inboard flap drive arm inspection: 1 work-hour with no parts cost for fleet cost of $65,450 or $85 per product.

In addition, we estimate that any necessary corrective actions (on-condition costs) that must be taken based on the above inspections, etc. would take about 16 work-hours and require parts costing approximately $10,000 for a cost of $11,360 per product. We have no way of determining the number of products that may need these necessary corrective actions. This breaks down as follows:

• Replacements based on damaged parts or reduced life limits as a result of the new maintenance manual limitations: 6 work-hours with parts about $4,000 for a cost of $4,510 per product.

• Repairs to the wing spar as a result of the wing main spar fastener holes inspection: 7 work-hours with parts about $5,000 for a cost of $5,595 per product.

• Replacement of the inboard flap drive arm as a result of the inboard flap drive arm inspection: 3 work-hours with parts about $1,000 for a cost of $1,255.

The only costs that would be imposed by this proposed AD over that already required by AD 2012-26-16 is the inboard flap arm inspection and replacement as necessary and the addition of 92 airplanes from 678 airplanes to 770 airplanes.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17311 (78 FR 11572, February 19, 2013), and adding the following new AD:

Pilatus Aircraft LTD.: Docket No. FAA-2014-0594; Directorate Identifier 2014-CE-022-AD.

(a) Comments Due Date

We must receive comments by October 2, 2014.

(b) Affected ADs

This AD supersedes AD 2012-26-16, Amendment 39-17311 (78 FR 11572, February 19, 2013).

(c) Applicability

This AD applies to PILATUS AIRCRAFT LTD. Models PC-12, PC-12/45, PC-12/47, and PC-12/47E airplanes, all manufacturer serial numbers (MSNs), certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as a need to incorporate new revisions into the Limitations section, Chapter 4, of the FAA-approved maintenance program (e.g., maintenance manual). The limitations were revised to include repetitive inspections of the inboard flap drive arms for crack(s). These actions are required to ensure the continued operational safety of the affected airplanes.

(f) Actions and Compliance

Unless already done, do the following actions in paragraphs (f)(1) through (f)(7) of this AD:

(1) Actions retained from AD 2012-26-16, Amendment 39-17311 (78 FR 11572, February 19, 2013) for Models PC-12 and PC-12/45 airplanes, MSNs 101 through 299: Within the next 100 hours time-in-service (TIS) after August 19, 2009 (the effective date retained from AD 2009-14-13, Amendment 39-15963 (74 FR 34213, July 15, 2009)) or 1 year after August 19, 2009 (the effective date retained from AD 2009-14-13), whichever occurs first, replace the torque tube part number (P/N) 532.50.12.047 with torque tube P/N 532.50.12.064 following Pilatus Aircraft LTD. Service Bulletin No: 32-021, dated November 21, 2008.

(2) Actions retained from AD 2012-26-16, Amendment 39-17311 (78 FR 11572, February 19. 2013) for all airplanes: As of March 26, 2013 (the effective date retained from AD 2012-26-16), do not install torque tube P/N 532.50.12.047.

(3) Actions new to this AD for all airplanes: Before further flight after September 22, 2014 (the effective date of this AD), insert Data module code 12-A-04-00-00-00A-000A-A, “Structural, Component and Miscellaneous—Airworthiness Limitations,” dated March 13, 2014, of the Pilatus Model Identification: 12 Aircraft Maintenance Manual, PC12, PC12/45, PC 12/47 AMM Document No. 02049, 12-A-AM-00-00-00-I, revision 28, dated May 31, 2014, for Models PC-12, PC-12/45, PC-12/47, and Data module code 12-B-04-00-00-00A-000A-A, “Structural and Component Limitations—Airworthiness Limitations,” dated March 13, 2014, of the Pilatus Model Identification: 12 Aircraft Maintenance Manual, PC 12/47E AMM Document No. 02300, 12-B-AM-00-00-00-I, revision 11, dated May 31, 2014, for Model PC-12/47E, into the Limitations section of the FAA-approved maintenance program (e.g., maintenance manual). These limitations section revisions do the following:

(i) Establish an inspection of the inboard flap drive arms,

(ii) Specify replacement of components before or upon reaching the applicable life limit, and

(iii) Specify accomplishment of all applicable maintenance tasks within certain thresholds and intervals.

(4) Actions retained from AD 2012-26-16, Amendment 39-17311 (78 FR 11572, February 19. 2013) for all airplanes: Only authorized Pilatus Service Centers can do the Supplemental Structural Inspection Document (SSID) as required by the documents in paragraph (f)(3) of this AD because deviations from the type design in critical locations could make the airplane ineligible for this life extension.

(5) Actions new to this AD for all airplanes: If no compliance time is specified in the documents listed in paragraph (f)(3) of this AD when doing any corrective actions where discrepancies are found as required in paragraph (f)(3)(iii) of this AD, do these corrective actions before further flight after doing the applicable maintenance task.

(6) Actions new to this AD for all airplanes: During the accomplishment of the actions required in paragraphs (f)(3)(i), (f)(3)(ii), and (f)(3)(iii) of this AD, if a discrepancy is found that is not identified in the documents listed in paragraph (f)(3) of this AD, before further flight after finding the discrepancy, contact Pilatus Aircraft LTD, at the address specified in paragraph (i) of this AD for a repair scheme and incorporate that repair scheme.

(7) Actions new to this AD for all airplanes: Within the next 3 months after the effective date of this AD or within the next 150 hours TIS after the effective date of this AD, whichever occurs first, inspect the inboard flap drive arms for cracks and take all necessary corrective actions.

(g) Other FAA AD Provisions

The following provisions also apply to this AD:

(1) Alternative Methods of Compliance (AMOCs): The Manager, Standards Office, FAA, has the authority to approve AMOCs for this AD, if requested using the procedures found in 14 CFR 39.19. Send information to Doug Rudolph, Aerospace Engineer, FAA, Small Airplane Directorate, 901 Locust, Room 301, Kansas City, Missouri 64106; telephone: (816) 329-4059; fax: (816) 329-4090; email: doug.rudolph@faa.gov.

(i) Before using any approved AMOC on any airplane to which the AMOC applies, notify your appropriate principal inspector (PI) in the FAA Flight Standards District Office (FSDO), or lacking a PI, your local FSDO.

(ii) AMOCs approved for AD 2012-26-16, Amendment 39-17311 (77 FR 11572, February 19, 2013) are not approved as AMOCs for this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Special Flight Permit

Special flight permits are prohibited.

(i) Related Information

Refer to MCAI European Aviation Safety Agency (EASA) AD No. 2014-0170, dated July 17, 2014, for related information. You may examine the MCAI on the Internet at http://www.regulations.gov by searching for and locating Docket No. FAA-2014-0594. For service information related to this AD, contact Pilatus Aircraft LTD., Customer Service Manager, CH-6371 STANS, Switzerland; telephone: +41 (0) 41 619 33 33; fax: +41 (0) 41 619 73 11; Internet: http://www.pilatus-aircraft.com or email: SupportPC12@pilatus-aircraft.com. You may review copies of the referenced service information at the FAA, Small Airplane Directorate, 901 Locust, Kansas City, Missouri 64106. For information on the availability of this material at the FAA, call (816) 329-4148.

Issued in Kansas City, Missouri, on August 12, 2014.
Monica L. Nemecek,
Acting Manager, Small Airplane Directorate, Aircraft Certification Service.

[FR Doc. 2014-19490 Filed 8-15-14; 8:45 am]

BILLING CODE 4910-13-P